ENVIRONMENTAL PROTECTION AGENCY

[FRL-9773-7]

Operating Industries, Inc. Superfund Site, Monterey Park, CA; Notice of Proposed CERCLA Administrative De Minimis Settlement

AGENCY: Environmental Protection Agency (EPA).

ACTION: Notice; request for comment.

SUMMARY: In accordance with Section 122(i)(1) of the Comprehensive Environmental Response, Compensation and Liability Act of 1980, as amended (CERCLA), 42 U.S.C. 9622(i) and Section 7003(d) of the Resource Conservation and Recovery Act, as amended (RCRA), 42 U.S.C. 6973, notice is hereby given of a proposed administrative settlement with 47 de minimis settling parties for recovery of response costs concerning the Operating Industries, Inc. Superfund Site in Monterey Park, California. The settlement is entered into pursuant to Section 122(g) of CERCLA, 42 U.S.C. 9622(g) and it requires the settling parties to pay $1,624,928 to the United States Environmental Protection Agency (Agency). The settlement includes a covenant not to sue the settling parties pursuant to Sections 106 or 107(a) of CERCLA, 42 U.S.C. 9606 or 9607(a), and Section 7003(d) of RCRA, 42 U.S.C. 6973. For thirty (30) days following the date of publication of this Notice, the Agency will receive written comments relating to the settlement. The Agency will consider all comments received and may modify or withdraw its consent to the settlement if comments received disclose facts or considerations which indicate that the settlement is inappropriate, improper, or inadequate. The Agency's response to any comments received will be available for public inspection at 75 Hawthorne Street, San Francisco, CA 94105.

DATES: Pursuant to Section 122(i)(1) of CERCLA and Section 7003(d) of RCRA, EPA will receive written comments relating to this proposed settlement for thirty (30) days following the date of publication of this Notice. Pursuant to Section 7003(d) of RCRA, commenters may request an opportunity for a public meeting in the affected area. If EPA receives a request for a public meeting within thirty (30) days following the publication of this Notice, EPA will hold a public meeting at a date and location to be determined.

ADDRESSES: The proposed settlement is available for public inspection at EPA Region IX, 75 Hawthorne Street, San Francisco, California. A copy of the proposed settlement may be obtained from Keith Olinger, EPA Region IX, 75 Hawthorne Street, SFD-7-5, San Francisco, CA 94105, telephone number 415-972-3125. Comments should reference the Operating Industries, Inc. Superfund Site in Monterey Park, California and EPA Docket No. 2011-06 and should be addressed to Keith Olinger at the above address.

FOR FURTHER INFORMATION CONTACT: Janet Magnuson, Assistant Regional Counsel (ORC-3), Office of Regional Counsel, U.S. EPA Region IX, 75 Hawthorne Street, San Francisco, CA 94105; phone: (415) 972-3887; fax: (417) 947-3570; email: magnuson.janet@epa.gov.

Dated: January 14, 2013.
Jane Diamond,
Director, Superfund Division, U.S. EPA, Region IX.

Parties to the Proposed Settlement: American Marble & Onyx Company, Inc., Arroyo Car Wash Corporation, Bay Cities Container Corporation, Brett's Incorporated, C.E. Encell Auto Parts Service, Inc., Cal-Chem Cleaning Co., Inc., Canplas, LLC, Consumers Oil Company, Cormier Chevrolet Company, Corradini Corp., fka A. Corradini & Sons, aka Corradini Corporation, George J. Peckham, Jr., H.W. Hull & Sons, Inc., Hacienda Car Wash, Inc., Hiro's Transmission, Inc., International Paper Company, International Transportation Service, Inc., John Crane, Inc., Koosed Enterprises, Inc., Los Feliz Car Wash, Margus Auto Electric Exchange, Inc., Midway Drilling & Pump Company, MK Diamond Products, Inc., National Aeronautics and Space Administration, National Credit Corporation, North Hills Car Wash Company, Oil Well Service Company, Pacific Coast Drum Company, Pentair, Inc., Porcelain Metals Corporation, R.R. Kellogg, Inc., Ralphs Grocery Company, RCG Electronics Corp., dba Washington Caterers, Resco Holdings, LLC, Ryder System, Inc., Solar Turbines International Company, Standard Graphics Arts Corporation, Talley Brothers, Inc., Trans Harbor, Inc., Treasure-Craft, V & M Precision Grinding Co., V-M Enterprises, Inc., Valeant Pharmaceuticals International, Valley Proteins (DE), Inc., Vernon Sanitation Supply Co., Inc., Western & Fourth Car Wash, Inc., Westwood Car Wash, Wyeth, LLC.

[FR Doc. 2013-01593 Filed 1-25-13; 8:45 am]

BILLING CODE 6560-50-P